FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Fast Dispatch, Inc., 2153 NW 79th Avenue, Doral, FL 33122. Officers: Juan F. Amortegui, Vice President (Qualifying Individual). Jario Amortegui, President.

Ancho Logistix (Canada) Ltd., 1030 Kamato Road, Ste. #206, Missisauga, Ontario L4W 486, Canada. Officers: Mylai Balakrishnan Karthik, Director (Qualifying Individual). Wasim Ahmed, Director.

SSI Ocean Services, Inc., 8001 NW., 79th Avenue, Miami, FL 33166. Officers: Maria D. Lanzas, Vice President, (Qualifying Individual). Steven J. Bresky, Director.

Non-Vessel Operating Common Carrier and Ocean Freight Forwarder Transportation Intermediary Applicants

E S P A Enterprise Corporation dba ESPA Cargo, 4140-B Austin Blvd., Island Park, NY 11558. Officers: Jose C. Fernandez, President (Qualifying Individual). Maria J. Fernandez, Vice President.

Estes Air Forwarding LLC, 1100 Commerce Road, Richmond, VA 23224. Officers: Harold Gary Weekley, Managing Dir. Int'l., (Qualifying Individual). Stephen E. Hupp, Director.

Sunrise Logistics LLC, 1 Barnard Place, Princeton Junction, NJ 08550. Officers: Kunj Behari Kaira, Vice President, (Qualifying Individual). Bal Krishan Kaira, President.

Selim Logistics Systems USA, Inc., 777 Mark Street, #107, Wood Dale, IL 60191. Officers: Kanghee Shim, Secretary (Qualifying Individual). Sung In Lee, President.

United Logistics Corp., 3650 Mansell Road, #400, Alpharetta, GA 30022. Officers: Joan McDermott, Secretary (Qualifying Individual). Chuanxiang Li, President.

Adonay Trans Services, 145-60 228th Street, Springfield Garden, NY 11413, Regina Nweke, Sole Proprietor.

L.J. Rogers Inc., 170 Cherry & Webb Lane, Westport, MA 02791. Officers: Paul J. Rogers, Vice President (Qualifying Individual). Laura J. Mullin, President.

Mission Logistics, LLC, 930 W. Hyde Park Blvd., D, Inglewood, CA 90302. Officer: Mike Myung Kuk Choi, President (Qualifying Individual).

Ocean Freight Forwarder—Ocean Transportation Intermediary Applicants

ERC International Logistics, LLC, 6 Chesterfield Court, Monkton, MD 21111. Officers: Eric R. Clemens, Vice President (Qualifying Individual). Katherine S. Clemens, President.

WTO Express (USA) Corp., 20265 Valley Blvd., Suite B, Walnut, CA 91789. Officers: Nancy Ya-Nan Shen, Vice President, (Qualifying Individual). Kuo-An Lee, Director.

Trans Wagon Int'l (USA) Co., Ltd., 20265 Valley Blvd., Walnut, CA 91789. Officers: Nancy Ya-Nan, Shen, Vice President (Qualifying Individual). Ching-Tang Yang, Director.

Dated: October 26, 2007.
Bryant L. VanBrakle,
Secretary.

[FR Doc. E7-21457 Filed 10-30-07; 8:45 am]

BILLING CODE 6730-01-P